DEPARTMENT OF COMMERCE

Census Bureau

[Docket Number: 241112-0289; RTID 0607-XC079]

The Census Bureau's Proposed Race/Ethnicity Code List for the American Community Survey and the 2030 Census

AGENCY: Census Bureau, Department of Commerce.

ACTION: Notice; request for public comment.

SUMMARY: As part of the Race/Ethnicity Coding Improvement Project, the U.S. Census Bureau (Census Bureau) is seeking feedback on the proposed race/ethnicity code list that will be used when the combined race/ethnicity question is implemented in the American Community Survey (ACS) and the 2030 Census. The Census Bureau aims to enhance and improve the code list that was used in the 2020 Census and is currently used in the ACS to ensure that detailed race and/or ethnicity responses are accurately coded and tabulated in future data collections.

DATES: To ensure consideration, comments must be received on or before February 18, 2025.

ADDRESSES: Comments are being requested through the following method:

Electronic submission: Submit public comments using the Federal eRulemaking Portal.

1. Go to www.regulations.gov and enter Docket Number USBC-2024-0022 in the search field.

2. Click the “Comment Now!” icon, complete the required fields.

3. Enter or attach your comments.

All comments responding to this document will be a matter of public record. Relevant comments will generally be available on the Federal eRulemaking Portal at: https://www.regulations.gov.

All comments received are part of the public record. All Personally Identifiable Information (e.g., name and address) voluntarily submitted by the commenter may be publicly accessible. Do not submit Confidential Business Information or otherwise sensitive or protected information. You may submit attachments to electronic comments in Microsoft Word, Excel, or Adobe PDF file formats.

FOR FURTHER INFORMATION CONTACT: For questions about this notice, please contact: Roberto Ramirez at Roberto.R.Ramirez@census.gov or (301) 763-6044. Please direct media inquiries to the Census Bureau's Public Information Office at (301) 763-3030.

SUPPLEMENTARY INFORMATION: The Census Bureau is conducting its Race/Ethnicity Coding Improvement Project, which provides an opportunity for the public to provide feedback on how detailed race and/or ethnicity and American Indian or Alaska Native populations will be coded when the combined race/ethnicity question is implemented in the ACS and the 2030 Census. As in previous updates to the code list, all updates will be based on three criteria: (1) Federal scientific research and evidence; (2) stakeholder feedback, and (3) alignment with the U.S. Office of Management and Budget's updated 2024 Statistical Policy Directive No. 15 (see https://spd15revision.gov). The Census Bureau anticipates publishing a summary of the feedback received and the final code list in a future notice. An upcoming live question-and-answer webinar will provide an opportunity for the public to ask any procedural questions about how to respond to this Notice.

The Census Bureau is seeking feedback on how race and/or ethnicity and American Indian or Alaska Native populations are coded, and it is not seeking feedback on how the U.S. Office of Management and Budget defined race/ethnicity categories through Statistical Policy Directive No. 15, which are a minimum set of categories that all Federal agencies must use when collecting information on race and ethnicity, regardless of the collection mechanism, as well as additional guidance on the collection, compilation, and dissemination of these data.

Coding is the process that assigns a numeric code to the responses that are provided in the write-in areas on the race and/or ethnicity question. The numeric codes are used to process and tabulate the data. For example, if a respondent provides a write-in response of “Ghanaian,” the code list is used to assign this response code `3180.'

Race and/or ethnicity groups may have several terms on the code list that receive the same code. This may include spelling variations, abbreviations, or in-language names. For example, responses of “Coeur D'Alene Tribe” receive the code `5708,' as do responses of “Coeur D'Alene Tribe of Indians” and “Schitsu'umsh.” In our data products, all responses of “Coeur D'Alene Tribe,” “Coeur D'Alene Tribe of Indians” and “Schitsu'umsh” are tabulated together because they are given the same code, and they are therefore all included in the population count for “Coeur D'Alene Tribe.”

On the proposed code list, some race and/or ethnicity groups have a range of codes associated with them. An example of this is “Italian” (codes 1205-1209), which includes terms that receive the codes `1206' (Italian), `1207' (Sardinian) and `1208' (Sicilian). Providing various groups with their own codes allows the Census Bureau to continue conducting research and see how often the group is reported. Unique codes are often provided for groups when Census Bureau research indicates that there are increasing numbers of people reporting a particular term in the decennial census.

Once the coding operation is completed, the codes are used in the editing process and to tabulate estimates and counts that are published in our ACS and decennial data products. Note that because a group has a unique code, that does not guarantee that data will be published for that group, as population thresholds, editing processes, or other processes may prevent us from publishing data for certain groups regardless of if they have a unique code.

Request for Public Comment

The Census Bureau is soliciting public comment to improve the race/ethnicity code list. This feedback will enable the Census Bureau to more accurately collect, process, and tabulate detailed racial, ethnic, and tribal responses reported in the race/ethnicity question. The Census Bureau is seeking feedback on the following questions, but will consider all comments received on topics germane to this notice:

1. Are there any groups missing from the proposed code list? If so, please identify them and suggest how the groups should be classified and why.

2. Are any groups on the proposed code list misclassified? If so, please identify them and suggest an alternative classification or indicate if the term should be removed.

3. Are there alternative terms, abbreviations, or in-language terms people may use to identify with a specific group that should be added to the proposed code list? If so, please identify them and suggest a classification.

4. The 2020 Census race/ethnicity code list at: https://www2.census.gov/programs-surveys/decennial/2020/technical-documentation/complete-tech-docs/detailed-demographic-and-housing-characteristics-file-a/2020-hispanic-origin-and-race-code-list.xlsx was organized into regional categories (e.g., Chinese and Japanese aggregated into East Asian) and counts for these regional categories were published in 2020 Census data products. Based on stakeholder feedback and the challenging nature of categorizing groups into regional categories when the boundaries are not clearly defined, may change over time, or may overlap, the Census Bureau is proposing to remove its definitions and concepts of regional categories so that data users would have more flexibility to create their own regional categories using the disaggregated data. How do you use the data produced for regional categories from the 2020 Census? How would removing regional categories from the code list and tabulated products impact your ability to use the detailed race/ethnicity data? Would the ability to create your own regional categories using disaggregated data be useful to your work?

The proposed race/ethnicity code list can be accessed at: https://www2.census.gov/programs-surveys/demo/2030-race-and-or-ethnicity-code-list/.

Robert L. Santos, Director, Census Bureau, approved the publication of this notice in the Federal Register.

Dated: November 12, 2024.
Shannon Wink,
Program Analyst, Policy Coordination Office, U.S. Census Bureau.

[FR Doc. 2024-26827 Filed 11-15-24; 8:45 am]

BILLING CODE 3510-07-P